DEPARTMENT OF HOUSING AND URBAN DEVELOPMENT

[Docket No. FR-5030-FA-03]

Announcement of Funding Awards for the Housing Counseling Program for Fiscal Year 2006

AGENCY: Office of the Assistant Secretary for Housing—Federal Housing Commissioner, HUD.

ACTION: Announcement of funding awards.

SUMMARY: In accordance with Section 102(a)(4)(C) of the Department of Housing and Urban Development Reform Act of 1989 (42 U.S.C. 3545), this announcement notifies the public of funding decisions made by the Department in a Super Notice of Funding Availability (NOFA) competition for funding of HUD-approved counseling agencies to provide counseling services. Appendix A contains the names and addresses of the agencies competitively selected for funding and the award amounts. Intermediaries are listed first and subsequent awards are grouped by their respective HUD Homeownership Center. Additionally, this announcement lists the noncompetitive housing counseling awards made by the Department.

FOR FURTHER INFORMATION CONTACT: Ruth Román, Director, Program Support Division, Office of Single Family Housing, Department of Housing and Urban Development, 451 Seventh Street, SW., Room 9274, Washington, DC 20410-8000, telephone (202) 708-0317. Hearing- or speech-impaired individuals may access this number by calling the Federal Information Relay Service on (800) 877-8339. (This is a toll free number.)

SUPPLEMENTARY INFORMATION: The Housing Counseling Program is authorized by Section 106 of the Housing and Urban Development Act of 1968 (12 U.S.C. 1701x). HUD enters into agreement with qualified public or private nonprofit organizations to provide housing counseling services to low- and moderate-income individuals and families nationwide. The services include providing information, advice and assistance to the homeless, renters, first-time homebuyers, homeowners, and senior citizens in areas such as pre-purchase counseling, financial management, property maintenance and other forms of housing assistance to help individuals and families improve their housing conditions and meet the responsibilities of tenancy and homeownership.

HUD funding of approved housing counseling agencies is not guaranteed and when funds are awarded, a HUD grant does not cover all expenses incurred by an agency to deliver housing counseling services. Counseling agencies must actively seek additional funds from other sources such as city, county, state and federal agencies and from private entities to ensure that they have sufficient operating funds. The availability of Housing Counseling grants depends upon appropriations and the outcome of the award competition.

The 2006 grantees announced in Appendix A of this notice were selected for funding through a competition announced in a NOFA published in the Federal Register on March 8, 2006 (71 FR 11800), for the Housing Counseling Program. Applications were scored and selected for funding on the basis of selection criteria contained in the NOFA. HUD awarded $39,052,820 in housing counseling grants to 420 housing counseling organizations nationwide: 385 local agencies, 17 intermediaries, and 18 state housing finance agencies. Included in this figure is: $3,000,000 awarded to two intermediaries in supplemental funding for Home Equity Conversion Mortgage (HECM) counseling. These funds will provide counseling for the rapidly growing numbers of elderly homeowners who seek to convert equity in their homes in income that can be used to pay for home improvement, medical costs and other living expenses.

The Catalog of Federal Domestic Assistance number for the Housing Counseling Program is 14.169.

In accordance with section 102(a)(4)(C) of the Department of Housing and Urban Development Reform Act of 1989 (103 Stat. 1987, 42 U.S.C. 3545), the Department is publishing the grantees and amounts of the awards in Appendix A of this document.

Dated: February 22, 2008.
Brian D. Montgomery,
Assistant Secretary for Housing-Federal Housing Commissioner.

Appendix A.—Fiscal Year 2006 Housing Counseling Grants
INTERMEDIARY ORGANIZATIONS (17)
ACORN HOUSING CORPORATION, 846 N. Broad St., 2nd floor, Philadelphia, PA 19130-2234, Grant Type: Comprehensive, Amount Awarded: $1,821,596. | NATIONAL COUNCIL OF LA RAZA, 1126 16th Street, NW., Suite 600, Washington, DC 20036, Grant Type: Comprehensive, Amount Awarded: $1,145,894.
CATHOLIC CHARITIES USA, 1731 King Street, Alexandria, VA 22314-2720, Grant Type: Comprehensive, Amount Awarded: $782,088. | NATIONAL CREDIT UNION FOUNDATION, 601 Pennsylvania Avenue, NW., South Building, Suite 600, Washington, DC 20004-2601, Grant Type: Comprehensive, Amount Awarded: $1,000,372.
CITIZENS' HOUSING AND PLANNING ASSOCIATION, INC., 18 Tremont Street, Suite 401, Boston, MA 02108, Grant Type: Comprehensive, Amount Awarded: $901,000. | NATIONAL FOUNDATION FOR CREDIT COUNSELING, INC., 801 Roeder Road, Suite 900, Silver Spring, MD 20910-3372, Grant Type: Comprehensive, Amount Awarded: $1,916,984.
HOMEFREE-U.S.A, 318 Riggs Rd., NE., Washington, DC 20011-2534, Grant Type: Comprehensive, Amount Awarded: $1,218,655. | NATIONAL URBAN LEAGUE, 120 Wall Street, New York, NY 10005, Grant Type: Comprehensive, Amount Awarded: $636,566.
MISSION OF PEACE, 877 East Fifth Ave., Flint, MI 48503, Grant Type: Comprehensive, Amount Awarded: $563,805. | NEIGHBORHOOD REINVESTMENT CORPORATION, 1325 G St., NW., Suite 800, Washington, DC 20005-3104, Grant Type: Comprehensive, Amount Awarded: $1,291,416.
MON VALLEY INITIATIVE, 303-305 E. 8th Avenue, Homestead, PA 15120-1517, Grant Type: Comprehensive, Amount Awarded: $1,000,000. | RURAL COMMUNITY ASSISTANCE CORPORATION, 3120 Freeboard Drive, Suite 201, West Sacramento, CA 95691, Grant Type: Comprehensive, Amount Awarded: $615,678.
MONEY MANAGEMENT INTERNATIONAL INC., 9009 West Loop South, Suite 700, Houston, TX 77096-1719, Grant Type: Comprehensive, Amount Awarded: $908,252. | STRUCTURED EMPLOYMENT ECONOMIC DEVELOPMENT CO., 915 Broadway/17th fl/New York, NY 10010, Grant Type: Comprehensive, Amount Awarded: $1,726,208.
NATIONAL ASSOCIATION OF REAL ESTATE BROKERS—INVESTMENT DIVISION, INC., 1301 85th Avenue, Oakland, CA 94621-1605, Grant Type: Comprehensive, Amount Awarded: $1,073,132. | THE HOUSING PARTNERSHIP NETWORK, 160 State Street, 5th Floor, Boston, MA 02109, Grant Type: Comprehensive, Amount Awarded: $2,169,221.
WEST TENNESSEE LEGAL SERVICES, INC., 210 West Main Street, P.O. Box 2066, Jackson, TN 38302-2066, Grant Type: Comprehensive, Amount Awarded: $1,073,133.
LOCAL HOUSING COUNSELING AGENCIES (387)
Atlanta (LHCA—COMP)
ACCESS LIVING OF METROPOLITAN CHICAGO, 614 Roosevelt Road, Chicago, IL 60607, Grant Type: Comprehensive, Amount Awarded: $24,807. | AREA COMMITTEE TO IMPROVE OPPORTUNITIES NOW, INC., 594 Oconee Street, Athens, GA 30603, Grant Type: Comprehensive, Amount Awarded: $32,017.
AFFORDABLE HOUSING COALITION OF ASHEVILLE AND BUNCOMBE COUNTIES, INC., 34 Wall Street, Suite 607, Asheville, NC 28801, Grant Type: Comprehensive, Amount Awarded: $27,210. | B&D TRAINING SERVICES, 2952 Priscilla, Indianapolis, IN 46218, Grant Type: Comprehensive, Amount Awarded: $21,202.
AFFORDABLE HOUSING CORPORATION, 812 South Washington Street, Marion, IN 46953, Grant Type: Comprehensive, Amount Awarded: $48,691. | BETHEL NEW LIFE, INC., 4950 W. Thomas Street, Chicago, IL 60651, Grant Type: Comprehensive, Amount Awarded: $22,403.
AFFORDABLE HOUSING ENTERPRISES, INC., 333 South 9th Street, Griffin, GA 30224, Grant Type: Comprehensive, Amount Awarded: $20,000. | BRIGHTON CENTER, INCORPORATED, 741 Central Ave., Newport, KY 41071, Grant Type: Comprehensive, Amount Awarded: $34,442.
ALABAMA COUNCIL ON HUMAN RELATIONS, INC., 319 W. Glenn Ave., P.O. Box 409, Auburn, AL 36831-0409, Grant Type: Comprehensive, Amount Awarded: $23,400. | CAMPBELLSVILLE HOUSING AND REDEVELOPMENT AUTHORITY, 400 Ingram Ave., P.O. Box 597, Campbellsville, KY 42718-1627, Grant Type: Comprehensive, Amount Awarded: $22,689.
APPALACHIAN HOUSING AND REDEVELOPMENT CORPORATION, 800 Avenue B, Rome, GA 30162, Grant Type: Comprehensive, Amount Awarded: $26,008. | CATHOLIC CHARITIES OF THE ARCHDIOCESE OF CHICAGO, 671 S. Lewis Avenue, Waukegan, IL 60085, Grant Type: Comprehensive, Amount Awarded: $21,202.
CCCS OF NORTH WEST IN, INC., 3637 Grant Street, Gary, IN 46408-1423, Grant Type: Comprehensive, Amount Awarded: $29,613. | CITY OF BLOOMINGTON, 401 N. Morton St., P.O. Box 100, Bloomington 47402, Bloomington, IN 47404-3729, Grant Type: Comprehensive, Amount Awarded: $35,384.
CCCS OF WEST FL—MAIN OFFICE, 14 Palafox Place, P.O. Box 950, Pensacola, FL 32502, Grant Type: Comprehensive, Amount Awarded: $44,161. | CLINCH-POWELL RESOURCE CONSERVATION AND DEVELOPMENT AREA, 7995 Rutledge Pike, P.O. Box 379, Rutledge, TN 37861, Grant Type: Comprehensive, Amount Awarded: $30,815.
CDBG OPERATIONS CORPORATION, 510 North 25th Street, East St. Louis, IL 62205, Grant Type: Comprehensive, Amount Awarded: $38,053. | COBB HOUSING, INCORPORATED, 268 Lawrence St, Suite 100, Marietta, GA 30060, Grant Type: Comprehensive, Amount Awarded: $20,000.
CENTER FOR AFFORDABLE HOMEOWNERSHIP DBA TAMPA HOUSING AUTHORITY, 1803 North Howard Avenue, Tampa, FL 33607, Grant Type: Comprehensive, Amount Awarded: $23,605. | COLUMBUS HOUSING INITIATIVE, INC., 18 11th Street, Columbus, GA 31901, Grant Type: Comprehensive, Amount Awarded: $24,807.
CENTRAL FLORIDA COMMUNITY DEVELOPMENT CORPORATION, 847 Orange Avenue, P.O. Box 15065, Daytona Beach, FL 32114, Grant Type: Comprehensive, Amount Awarded: $26,008. | COMMUNITY ACTION AGENCY OF NORTHWEST ALABAMA, INC., 745 Thompson St., Florence, AL 35630, Grant Type: Comprehensive, Amount Awarded: $30,000.
CENTRAL ILLINOIS DEBT MANAGEMENT & CREDIT EDUCATION, INC. AKA CCCS OF CENTRAL IL, 222 E. North Street, Decatur, IL 62523, Grant Type: Comprehensive, Amount Awarded: $35,646. | COMMUNITY ACTION PARTNERSHIP OF N. AL, INC., 1909 Central Parkway SW, Decatur, AL 35601, Grant Type: Comprehensive, Amount Awarded: $47,181.
CHARLESTON AREA CDC, 1071A King Street, Charleston, SC 29413, Charleston, SC 29403, Grant Type: Comprehensive, Amount Awarded: $22,403. | COMMUNITY ACTION PROGRAM OF EVANSVILLE & VANDERBURGH COUNTY, INC., 27 Pasco Avenue, Evansville, IN 47713, Grant Type: Comprehensive, Amount Awarded: $30,000.
CHOANOKE AREA DEVELOPMENT ASSOCIATION, 120 Sessoms Drive, Rich Square, NC 27869, Grant Type: Comprehensive, Amount Awarded: $22,403. | CONSUMER CREDIT COUNSELING SERVICE OF FORSYTH COUNTY, INC., 8064 North Point Boulevard, Suite 204, 206 North Spruce St., Suite 2-B, Winston Salem, NC 27106, Grant Type: Comprehensive, Amount Awarded: $50,202.
COMMUNITY AND ECONOMIC DEVELOPMENT ASSOCIATION OF COOK COUNTY INC., 208 S. La Salle St., Ste 1900, Chicago, IL 60604-1104, Grant Type: Comprehensive, Amount Awarded: $29,613. | COOPERATIVE RESOURCE CENTER, INC., 191 Edgewood Avenue, SE., Atlanta, GA 30303, Grant Type: Comprehensive, Amount Awarded: $30,815.
COMMUNITY ENTERPRISE INVESTMENTS, INCORPORATED, 302 North Barcelona St., Pensacola, FL 32502, Grant Type: Comprehensive, Amount Awarded: $25,000. | CORPORACION MILAGROS DEL AMOR, P. O. Box 6445, 78 Gautier Benitez Street, Caguas, PR 00726-6445, Grant Type: Comprehensive, Amount Awarded: $21,202.
COMMUNITY HOUSING INITIATIVE, INC., 3033 College Wood Drive, P.O. Box 410522, FL 32941-0522, Melbourne, FL 32934, Grant Type: Comprehensive, Amount Awarded: $27,728. | CREDIT CARD MANAGEMENT SERVICES, INC., 4611 Okeechobee Boulevard, Suite 114, West Palm Beach, FL 33417, Grant Type: Comprehensive, Amount Awarded: $20,000.
COMMUNITY INVESTMENT CORPORATION OF DECATUR, INC 2121 S. Imboden Court, Decatur, IL 62521, Grant Type: Comprehensive, Amount Awarded: $33,750. | CUMBERLAND COMMUNITY ACTION PROGRAM, INC., 316 Green Street, P.O. Box 2009, Zip 29302 (for P.O. box only), Fayetteville, NC 28302, Grant Type: Comprehensive, Amount Awarded: $29,613.
COMMUNITY REINVESTMENT ALLIANCE OF LEXINGTON, 498 Georgetown Street, Suite 100, Lexington, KY 40508, Grant Type: Comprehensive, Amount Awarded: $26,008. | DEERFIELD BEACH HOUSING AUTHORITY, 533 S. Dixie Hwy, Deerfield Beach, FL 33441, Grant Type: Comprehensive, Amount Awarded: $21,202.
COMMUNITY SERVICE PROGRAMS OF WEST ALABAMA, INC., 601 17th St., Tuscaloosa, AL 35401-4807, Grant Type: Comprehensive, Amount Awarded: $29,613. | DEKALB/METRO HOUSING COUNSELING CENTER, 4151 Memorial Drive, Suite 207B, Decatur, GA 30032, Grant Type: Comprehensive, Amount Awarded: $21,202.
CONSUMER CREDIT COUNSELING SERVICE OF WNC, INC., 50 S. French Broad Ave., Ste 227, Asheville, NC 28801-3217, Grant Type: Comprehensive, Amount Awarded: $38,053. | FAMILY SERVICES, INC., 4925 Lacross St., Ste. 215, North Charleston, SC 29406, Grant Type: Comprehensive, Amount Awarded: $38,053.
DU PAGE HOMEOWNERSHIP CENTER, INC., 1333 N. Main St., Wheaton, IL 60187-3579, Grant Type: Comprehensive, Amount Awarded: $65,000. | FINANCIAL COUNSELORS OF AMERICA, 3294 Poplar Ave., Suite 304, Memphis, TN 38111, Grant Type: Comprehensive, Amount Awarded: $24,807.
DURHAM REGIONAL FINANCIAL CENTER DBA DURHAM REGIONAL COMMUNITY DEVELOPMENT GROUP, 315 East Chapel Hill Street, Suite 301, Durham, NC 27701, Grant Type: Comprehensive, Amount Awarded: $30,000. | GAP COMMUNITY DEVELOPMENT RESOURCES, INC., 129 West Fowlkes Street, Suite 137, Franklin, TN 37064, Grant Type: Comprehensive, Amount Awarded: $45,000.
EAST ATHENS DEVELOPMENT CORPORATION, 410 McKinley Drive, Suite 101, Athens, GA 30601, Grant Type: Comprehensive, Amount Awarded: $32,016. | GOLDEN RULE HOUSING AND COMMUNITY DEVELOPMENT, 417 E. 2nd Street, Sanford, FL 32771, Grant Type: Comprehensive, Amount Awarded: $26,008.
ECONOMIC OPPORTUNITY FOR SAVANNAH CHATHAM COUNTY AREA, INC., 618 W. Anderson St., P.O. Box 1353, Savannah, GA 31415, Grant Type: Comprehensive, Amount Awarded: $32,016. | GOODWILL INDUSTRIES MANASOTA, INC., 8490 Lockwood Ridge Road, Sarasota, FL 34243, Grant Type: Comprehensive, Amount Awarded: $35,646.
ELIZABETH CITY STATE UNIVERSITY, 1704 Weeksville Rd., Elizabeth City, NC 27909, Grant Type: Comprehensive, Amount Awarded: $45,671. | GREATER SOUTHWEST DEVELOPMENT CORPORATION, 2601 West 63rd Street, Chicago, IL 60629, Grant Type: Comprehensive, Amount Awarded: $33,239.
ELKHART HOUSING PARTNERSHIP, INC., 500 S. Main Street, P.O. Box 1772, Elkhart, IN 46516, Grant Type: Comprehensive, Amount Awarded: $30,000. | HOPE OF EVANSVILLE, INC., 608 Cherry St., Evansville, IN 47713-1808, Grant Type: Comprehensive, Amount Awarded: $24,807.
FAMILY COUNSELING CENTER OF BREVARD, INC., 220 Coral Sands Dr., Rockledge, FL 32955-2702, Grant Type: Comprehensive, Amount Awarded: $35,285. | HOUSING AND ECONOMIC LEADERSHIP PARTNERS, INC., 485 Huntington Road, Suite 200, Athens, GA 30606, Grant Type: Comprehensive, Amount Awarded: $33,239.
GREENSBORO HOUSING COALITION, 122 N. Elm Street, Suite 608, Greensboro, NC 27401, Grant Type: Comprehensive, Amount Awarded: $38,053. | HOUSING ASSISTANCE AND DEVELOPMENT SERVICES, INC., 1135 Adams Street, P.O. Box 9637, Bowling Green, KY 42102-9637, Grant Type: Comprehensive, Amount Awarded: $22,403.
GREENVILLE COUNTY HUMAN RELATIONS COMMISSION, 301 University Ridge, Suite 1600, Greenville, SC 29601-3660, Grant Type: Comprehensive, Amount Awarded: $134,702. | HOUSING AUTHORITY OF THE CITY OF FORT WAYNE, INDIANA, 2013 S. Anthony Blvd., P. O. Box 13489, Fort Wayne, IN 46869, Grant Type: Comprehensive, Amount Awarded: $23,605.
HALE EMPOWERMENT AND REVITALIZATION ORGANIZATION, 1120 Main Street, P.O. Box 318, Greensboro, AL 36744, Grant Type: Comprehensive, Amount Awarded: $23,605. | HOUSING AUTHORITY OF THE CITY OF ANDERSON, 528 West 11th St., Anderson, IN 46016-1228, Grant Type: Comprehensive, Amount Awarded: $25,000.
HCP OF ILLINOIS, INC., 28 E. Jackson Blvd., #1109, Chicago, IL 60604, Grant Type: Comprehensive, Amount Awarded: $36,849. | HOUSING AUTHORITY OF THE CITY OF HAMMOND, 1402 173rd Street, Hammond, IN 46324-2831, Grant Type: Comprehensive, Amount Awarded: $21,202.
HIGHLAND FAMILY RESOURCE CENTER, INC., 1305 N. Weldon Street, P. O. Box 806, Gastonia, NC 28053, Grant Type: Comprehensive, Amount Awarded: $36,849. | HOUSING AUTHORITY OF THE CITY OF HIGH POINT, 500E Russell Avenue, P.O. Box 1779, High Point, NC 27260, Grant Type: Comprehensive, Amount Awarded: $34,442.
HOME DEVELOPMENT RESOURCES, INC. (FORMERLY GAINESVILLE-HALL COUNTY), 2380 Murphy Blvd., P.O. Box 642, Gainesville, GA 30504, Grant Type: Comprehensive, Amount Awarded: $35,646. | INDIANAPOLIS URBAN LEAGUE, 777 Indiana Ave., Indianapolis, IN 46202-3135, Grant Type: Comprehensive, Amount Awarded: $20,000.
HOMES IN PARTNERSHIP, INCORPORATED, 235 E. 5th St., P.O. Box 761, Apopka, FL 32703-5315, Grant Type: Comprehensive, Amount Awarded: $27,210. | JACKSONVILLE AREA LEGAL AID, INC., 126 W. Adams Street, Jacksonville, FL 32202-3849, Grant Type: Comprehensive, Amount Awarded: $47,181.
HOOSIER UPLANDS ECONOMIC DEVELOPMENT CORPORATION, 521 W. Main St., P.O. Box 9, Mitchell, IN 47446-1410, Grant Type: Comprehensive, Amount Awarded: $20,000. | JC VISION AND ASSOCIATES, INC., 135 G East Martin Luther King Dr., P.O Box 1972, Hinesville, GA 31313, Grant Type: Comprehensive, Amount Awarded: $45,671.
HOUSING AUTHORITY OF THE COUNTY LAKE, 33928 North Route 45, Grayslake, IL 60030, Grant Type: Comprehensive, Amount Awarded: $25,853. | JEFFERSON COUNTY HOUSING AUTHORITY, 3700 Industrial Parkway, Birmingham, AL 35217, Grant Type: Comprehensive, Amount Awarded: $21,202.
HOUSING AUTHORITY, CITY OF ELKHART, 1396 Benham Ave., Elkhart, IN 46516-3341, Grant Type: Comprehensive, Amount Awarded: $26,202. | JOHNSTON-LEE-HARNETT COMMUNITY ACTION, INC., 1102 Massey Street, P.O. Drawer 711, Smithfield, NC 27577-0711, Grant Type: Comprehensive, Amount Awarded: $20,000.
HOUSING DEVELOPMENT CORPORATION OF ST. JOSEPH COUNTY, 224 W. Jefferson Blvd., Suite 100, South Bend, IN 46601-1830, Grant Type: Comprehensive, Amount Awarded: $28,412. | LATIN AMERICAN ASSOCIATION, 2750 Buford Highway, Atlanta, GA 30324, Grant Type: Comprehensive, Amount Awarded: $36,849.
HOUSING OPPORTUNITIES, INC., 2801 Evans Avenue, Valparaiso, IN 46383, Grant Type: Comprehensive, Amount Awarded: $25,000. | HOUSING OPPORTUNITY DEVELOPMENT, 1000 Skokie Boulevard, Suite 500, Wilmette, IL 60091, Grant Type: Comprehensive, Amount Awarded: $30,000.
HOUSING PARTNERSHIP, INC., 2001 W. Blue Heron Blvd., Riviera Beach, FL 33404, Grant Type: Comprehensive, Amount Awarded: $35,646. | MIAMI BEACH COMMUNITY DEVELOPMENT CORP., 945 Pennsylvania Avenue 2nd Floor, Miami Beach, FL 33139, Grant Type: Comprehensive, Amount Awarded: $32,016.
LATIN UNITED COMMUNITY HOUSING ASSOCIATION, 3541 West North Avenue, Chicago, IL 60647, Grant Type: Comprehensive, Amount Awarded: $32,016. | MID-FLORIDA HOUSING PARTNERSHIP, INC., 1834 Mason Avenue, Daytona Beach, FL 32117, Grant Type: Comprehensive, Amount Awarded: $24,807.
LEGAL ASSISTANCE FOUNDATION OF METROPOLITAN CHICAGO, 111 West Jackson Blvd., Suite 300, Chicago, IL 60604, Grant Type: Comprehensive, Amount Awarded: $36,849. | MIDDLE GEORGIA COMMUNITY ACTION AGENCY, INC., 121 Prince Street, P.O. Box 2286, Warner Robins, GA 31099, Grant Type: Comprehensive, Amount Awarded: $33,238.
LIGHTHOUSE CREDIT FOUNDATION, INC., 8550 Ulmerton Road, Suite 125, Largo, FL 33771, Grant Type: Comprehensive, Amount Awarded: $23,605. | MOBILE HOUSING BOARD, 151 S. Claiborne Street, Mobile, AL 36602, Grant Type: Comprehensive, Amount Awarded: $44,161.
LINCOLN HILLS DEVELOPMENT CORPORATION, 302 Main St., P.O. Box 336, Tell City, IN 47586-0336, Grant Type: Comprehensive, Amount Awarded: $21,123. | MOMENTIVE CONSUMER CREDIT COUNSELING SERVICE, 615 N. Alabama Street, Suite 134, Indianapolis, IN 46204-1477, Grant Type: Comprehensive, Amount Awarded: $38,053.
MANATEE COALITION FOR AFFORDABLE HOUSING, INC., 319 6th Avenue West, Bradenton, FL 34205, Grant Type: Comprehensive, Amount Awarded: $22,403. | MONROE-UNION COUNTY COMMUNITY DEVELOPMENT CORPORATION, 349 East Franklin Street, P.O. Box 887, Monroe, NC 28112, Grant Type: Comprehensive, Amount Awarded: $35,646.
MANATEE OPPORTUNITY COUNCIL, INCORPORATED, 302 Manatee Avenue E, Suite 150, Bradenton, FL 34208, Grant Type: Comprehensive, Amount Awarded: $28,412. | MONTGOMERY COMMUNITY ACTION COMMITTEE, 1066 Adams Avenue, Montgomery, AL 36104, Grant Type: Comprehensive, Amount Awarded: $27,055.
METEC, 305 S. Madison Park Terr, Zip-616105, P.O. Box 10034, Peoria, IL 61612, Grant Type: Comprehensive, Amount Awarded: $29,613. | PONCE NEIGHBORHOOD HOUSING SERVICES, INC., 57 Mendez Vigo Street, P.O. Box 330223, zip 00733-0223, Ponce, PR 00730-0223, Grant Type: Comprehensive, Amount Awarded: $35,646.
MUNCIE HOME OWNERSHIP AND DEVELOPMENT CENTER, 407 S. Walnut St., P.O. Box 93, Muncie, IN 47308, Grant Type: Comprehensive, Amount Awarded: $33,239. | PROSPERITY UNLIMITED, INC., 1660 Garnet Street, Kannapolis, NC 28083, Grant Type: Comprehensive, Amount Awarded: $50,202.
NORTHWESTERN REGIONAL HOUSING AUTHORITY, 869 Highway 105 Ext. Ste. 10, P.O. Box 2510, Boone, NC 28607-2510, Grant Type: Comprehensive, Amount Awarded: $32,016. | PURCHASE AREA HOUSING CORPORATION, 1002 Medical Dr., P.O. Box 588, Mayfield, KY 42066-0588, Grant Type: Comprehensive, Amount Awarded: $21,202.
OCALA HOUSING AUTHORITY, 1629 Northwest 4th Street, Ocala, FL 34475, Grant Type: Comprehensive, Amount Awarded: $32,016. | REACH, INC., 733 Red Mile Rd., Lexington, KY 40504, Grant Type: Comprehensive, Amount Awarded: $32,016.
OLIVE HILL COMMUNITY ECONOMIC DEVELOPMENT CORPORATION, 301 East Meeting St., Second Floor, P.O. Box 4008, Morganton, NC 28680-4008, Grant Type: Comprehensive, Amount Awarded: $28,412. | REDEMPTION MINISTRIES, INC., 109 Industrial Boulevard, Thomasville, GA 31799, Grant Type: Comprehensive, Amount Awarded: $24,000.
ONE STOP CAREER CENTER OF PUERTO RICO, Cond. Plaza Universidad 2000, Calle Anasco 839, Local 5, San Juan, PR 00928, Grant Type: Comprehensive, Amount Awarded: $24,807. | RIVER CITY COMMUNITY DEVELOPMENT CORPORATION, 501 East Main St., Elizabeth City, NC 27909, Grant Type: Comprehensive, Amount Awarded: $26,008.
ORGANIZED COMMUNITY ACTION PROGRAM, INC., 507 North Three Notch Street, P.O. Box 908, Troy, AL 36081-0908, Grant Type: Comprehensive, Amount Awarded: $26,008. | THE CENTER FOR AFFORDABLE HOUSING, INC., 2524 S. Park Drive, Sanford, FL 32773, Grant Type: Comprehensive, Amount Awarded: $35,646.
PARTNERSHIP FOR FAMILIES, CHILDREN AND ADULTS/CCCS OF CHATTANOOGA, 2221A Olan Mills Drive, Chattanooga, TN 37421, Grant Type: Comprehensive, Amount Awarded: $20,000. | THE IMPACT GROUP (FORMERLY: GWINNETT HOUSING RESOURCE PARTNERSHIP, INC.), 2825 Breckinridge Blvd., Suite 160, Duluth, GA 30096, Grant Type: Comprehensive, Amount Awarded: $20,000.
ROGERS PARK COMMUNITY DEVELOPMENT CORPORATION, 1530 West Morse Avenue, Chicago, IL 60626, Grant Type: Comprehensive, Amount Awarded: $32,016. | THE UNIVERSITY OF SOUTHERN MISS. (INSTITUTE FOR DISABILITY STUDIES), 118 College Drive, #5163, Hattiesburg, MS 39406-0001, Grant Type: Comprehensive, Amount Awarded: $20,000.
SACRED HEART SOUTHERN MISSIONS HOUSING CORPORATION, 9260 McLemore Drive, P.O. Box 365, Walls, MS 38680-0365, Grant Type: Comprehensive, Amount Awarded: $21,202. | TALLAHASSEE LENDERS CONSORTIUM, INC., 833 East Park Avenue, Tallahassee, FL 32301, Grant Type: Comprehensive, Amount Awarded: $38,053.
SANDHILLS COMMUNITY ACTION PROGRAM, INC., 103 Saunders St., P.O. Box 937, Carthage, NC 28327-0937, Grant Type: Comprehensive, Amount Awarded: $20,000. | TAMPA BAY COMMUNITY DEVELOPMENT CORPORATION, 2139 NE. Coachman Road, billsanchez@tampabaycdc.org, Clearwater, FL 33765, Grant Type: Comprehensive, Amount Awarded: $36,849.
SOUTH SUBURBAN HOUSING CENTER, 18220 Harwood Avenue, Suite 1, Homewood, IL 60430, Grant Type: Comprehensive, Amount Awarded: $35,646. | TRIDENT UNITED WAY, 6296 Rivers Avenue, P.O. Box 63305, North Charleston, SC 29419, Grant Type: Comprehensive, Amount Awarded: $35,646.
SOUTHERN INDIANA HOMEOWNERSHIP INC., 4367 N. Purdue Rd., Vincennes, IN 47591, Grant Type: Comprehensive, Amount Awarded: $32,016. | TSP-HOPE, INC., 1507 East Cook Street, P.O. Box 6091, Springfield, IL 62708-6091, Grant Type: Comprehensive, Amount Awarded: $22,403.
STATESVILLE HOUSING AUTHORITY, 110 West Allison Street, Statesville, NC 28677, Grant Type: Comprehensive, Amount Awarded: $32,016. | TWIN RIVERS OPPORTUNITIES, INC., 318 Craven St., P.O. Box 1482, New Bern, NC 28563, Grant Type: Comprehensive, Amount Awarded: $29,613.
UNIVERSITY OF GEORGIA'S FAMILY AND CONSUMER SCIENCES COOPERATIVE EXTENSION SERVICE (MAIN OFFICE), 617 Boyd Graduate Studies Research Center, Athens, GA 30602-7411, Grant Type: Comprehensive, Amount Awarded: $24,807. | VOLLINTINE EVERGREEN COMMUNITY ASSOCIATION CDC, 1680 Jackson Ave., Memphis, TN 38107-5044, Grant Type: Comprehensive, Amount Awarded: $21,202.
WESTERN PIEDMONT COUNCIL OF GOVERNMENTS, 736 4th Street South-West, P.O. Box 9026, Hickory, NC 28602, Grant Type: Comprehensive, Amount Awarded: $27,210. | WILL COUNTY CENTER FOR COMMUNITY CONCERNS, 304 N. Scott Street, Joliet, IL 60432, Grant Type: Comprehensive, Amount Awarded: $30,000.
WILMINGTON HOUSING FINANCE AND DEVELOPMENT, INC., 3508 Frog Pond Place, P.O. Box 547, Wilmington, NC 28403, Grant Type: Comprehensive, Amount Awarded: $45,671. | WOODBINE COMMUNITY ORGANIZATION, 222 Oriel Ave., Nashville, TN 37210, Grant Type: Comprehensive, Amount Awarded: $32,016.
DENVER (LHCA-COMP)
ADAMS COUNTY HOUSING AUTHORITY, 7190 Colorado Blvd., 6th Fl, Commerce City, CO 80022-1812, Grant Type: Comprehensive, Amount Awarded: $75,364. | BROTHERS REDEVELOPMENT, INC., 2250 Eaton St., Garden Level, Denver, CO 80214-1210, Grant Type: Comprehensive, Amount Awarded: $57,037.
ANOKA COUNTY COMMUNITY ACTION PROGRAM, INC., 1201 89th Ave., NE., Ste 345, Blaine, MN 55434-3373, Grant Type: Comprehensive, Amount Awarded: $43,644. | CARVER COUNTY CDA, 705 Walnut Street, Chaska, MN 55318, Grant Type: Comprehensive, Amount Awarded: $35,763.
AUSTIN TENANTS' COUNCIL, 1619 E. Cesar Chavez St., Austin, TX 78702-4455, Grant Type: Comprehensive, Amount Awarded: $44,954. | CITY OF AURORA COMMUNITY DEVELOPMENT DIVISION, 9898 E. Colfax Ave., Aurora, CO 80010, Grant Type: Comprehensive, Amount Awarded: $38,390.
AVENIDA GUADALUPE ASSOCIATION, 1327 Guadalupe St., San Antonio, TX 78207, Grant Type: Comprehensive, Amount Awarded: $46,271. | CITY OF FORT WORTH HOUSING DEPARTMENT, 1000 Throckmorton St., Fort Worth, TX 76102, Grant Type: Comprehensive, Amount Awarded: $57,037.
AVENUE COMMUNITY DEVELOPMENT CORPORATION, 2505 Washington Ave., Suite 400, Houston, TX 77007, Grant Type: Comprehensive, Amount Awarded: $43,000. | CITY OF SAN ANTONIO/COMMUNITY ACTION DIVISION, 700 So. Zarzamora, Suite 207, P.O. Box 839966, San Antonio, TX 78205, Grant Type: Comprehensive, Amount Awarded: $59,682.
BOULDER COUNTY HOUSING AUTHORITY, 3482 North Broadway, Sundquist Bldg., Boulder, CO 80304, Grant Type: Comprehensive, Amount Awarded: $54,391. | COLORADO HOUSING ASSISTANCE CORPORATION, 670 Santa Fe Drive, Denver, CO 80204, Grant Type: Comprehensive, Amount Awarded: $38,390.
COLORADO RURAL HOUSING DEVELOPMENT CORP., 3621 West 73rd Avenue, Suite C, Westminster, CO 80030, Grant Type: Comprehensive, Amount Awarded: $25,254. | COMMUNITY ACTION DULUTH, 19 N. 21st Avenue West, Duluth, MN 55806, Grant Type: Comprehensive, Amount Awarded: $41,017.
COMMUNITY ACTION PARTNERSHIP OF SUBURBAN HENNEPIN, 33 10th Ave. South, Suite 150, Hopkins, MN 55343-1303, Grant Type: Comprehensive, Amount Awarded: $22,627. | COMMUNITY ACTION SERVICES, 815 South Freedom Blvd., Suite 100, Provo, UT 84601, Grant Type: Comprehensive, Amount Awarded: $72,288.
COMMUNITY ACTION PROJECT OF TULSA, 4606 South Garnett Road, Suite 100, Tulsa, OK 74146, Grant Type: Comprehensive, Amount Awarded: $35,763. | COMMUNITY ACTION, INCORPORATED OF ROCK AND WALWORTH COUNTIES, 2300 Kellogg Ave., Janesville, WI 53546-5921, Grant Type: Comprehensive, Amount Awarded: $25,000.
COMMUNITY DEVELOPMENT CORPORATION OF BROWNSVILLE, 901 East Levee Street, Brownsville, TX 78520-5804, Grant Type: Comprehensive, Amount Awarded: $69,213. | COMMUNITY DEVELOPMENT SUPPORT ASSOCIATION, 2615 E. Randolph, Enid, OK 73701, Grant Type: Comprehensive, Amount Awarded: $30,000.
COMMUNITY SERVICES LEAGUE, 300 W. Maple Ave., Independence, MO 64050-2818, Grant Type: Comprehensive, Amount Awarded: $30,509. | CONSUMER CREDIT COUNSELING SERVICE OF CENTRAL OKLAHOMA, 3230 N. Rockwell Avenue, Bethany, OK 73008, Grant Type: Comprehensive, Amount Awarded: $85,000.
CONSUMER CREDIT COUNSELING SERVICE, INC., 1201 W. Walnut St., P.O. Box 843, Salina, KS 67402-0843, Grant Type: Comprehensive, Amount Awarded: $72,288. | CRAWFORD SEBASTIAN COMMUNITY DEVELOPMENT COUNCIL, 4831 Armour St., P.O. Box 4069, Fort Smith, AR 72914, Grant Type: Comprehensive, Amount Awarded: $33,136.
CREDIT ADVISORS FOUNDATION, 1818 S. 72nd Street, Omaha, NE 68124, Grant Type: Comprehensive, Amount Awarded: $75,364. | DAKOTA COUNTY COMMUNITY DEVELOPMENT AGENCY, 1228 Town Centre Drive, Eagan, MN 55123, Grant Type: Comprehensive, Amount Awarded: $49,100.
DISTRICT 7 HUMAN RESOURCES DEVELOPMENT COUNCIL, 7 N. 31 St., P.O. Box 2016, Billings, MT 59103, Grant Type: Comprehensive, Amount Awarded: $35,763. | EL PASO COMMUNITY ACTION PROGRAM, PROJECT BRAVO, INC., 4838 Montana Ave., El Paso, TX 79903, Grant Type: Comprehensive, Amount Awarded: $33,136.
FAMILY HOUSING ADVISORY SERVICES, INC., 2401 Lake Street, Omaha, NE 68111, Grant Type: Comprehensive, Amount Awarded: $51,746. | FAMILY MANAGEMENT CREDIT COUNSELORS, INC., 1409 W. 4th Street, Waterloo, IA 50702-2907, Grant Type: Comprehensive, Amount Awarded: $46,000.
GULF COAST COMMUNITY SERVICES ASSOCIATION, 5000 Gulf Freeway, Bldg #1, Houston, TX 77023, Grant Type: Comprehensive, Amount Awarded: $27,881. | HIGH PLAINS COMMUNITY DEVELOPMENT, CORP., 130 E. 2nd Street, Chadron, NE 69337, Grant Type: Comprehensive, Amount Awarded: $68,445.
HOME OPPORTUNITIES MADE EASY, INC. (HOME, INC.), 1111 Ninth Street, Suite 210, Des Moines, IA 50314, Grant Type: Comprehensive, Amount Awarded: $47,914. | HOUSING AND CREDIT COUNSELING, INCORPORATED, 1195 SW. Buchanan St., Ste 101, Topeka, KS 66604-1183, Grant Type: Comprehensive, Amount Awarded: $75,364.
HOUSING AUTHORITY OF THE CITY OF NORMAN, 700 North Berry Road, Norman, OK 73069, Grant Type: Comprehensive, Amount Awarded: $55,000. | HOUSING AUTHORITY OF THE CITY OF SHAWNEE, 601 West 7th Street, P.O. Box 3427, Shawnee, OK 74802-3427, Grant Type: Comprehensive, Amount Awarded: $46,271.
HOUSING OPTIONS PROVIDED FOR THE ELDERLY, 4265 Shaw Blvd, St. Louis, MO 63110-3526, Grant Type: Comprehensive, Amount Awarded: $140,000. | HOUSING PARTNERS OF TULSA, INCORPORATED, 415 E. Independence, P.O. Box 6369, Tulsa, OK 74106, Grant Type: Comprehensive, Amount Awarded: $33,136.
HOUSING SOLUTIONS FOR THE SOUTHWEST, 295 Girard St., Durango, CO 81303, Grant Type: Comprehensive, Amount Awarded: $41,017. | HUMAN RESOURCE DEVELOPMENT COUNCIL OF DISTRICT IX, INC., 32 S. Tracy Avenue, Bozeman, MT 59715, Grant Type: Comprehensive, Amount Awarded: $60,000.
INTERFAITH OF NATRONA COUNTY, INCORPORATED, 1514 East 12th Street, #303, Casper, WY 82601, Grant Type: Comprehensive, Amount Awarded: $40,000. | IOWA CITIZENS FOR COMMUNITY IMPROVEMENT, 2005 Forest Avenue, Des Moines, IA 50311, Grant Type: Comprehensive, Amount Awarded: $40,000.
JUSTINE PETERSEN HOUSING AND REINVESTMENT COR, 5031 Northrup Ave., St. Louis, MO 63110, Grant Type: Comprehensive, Amount Awarded: $146,410. | KI BOIS COMMUNITY ACTION FOUNDATION, INCORPOR, 301 E. Main, P.O. Box 727, Stigler, OK 74462, Grant Type: Comprehensive, Amount Awarded: $59,830.
LAFAYETTE CONSOLIDATED GOVERNMENT NEIGHBORHOOD COUNSELING SERVICES, 111 Shirley Picard Dr., Lafayette, LA 70501, Grant Type: Comprehensive, Amount Awarded: $27,000. | NORTHERN ARAPAHO TRIBAL HOUSING, 501 Ethete Rd., P.O. Box 8236, Ethete, WY 82520, Grant Type: Comprehensive, Amount Awarded: $35,495.
LAKE COUNTY COMMUNITY HOUSING ORGANIZATION AN, 407 Main Street, SW., P.O. Box 146, Ronan, MT 59864, Grant Type: Comprehensive, Amount Awarded: $24,460. | OGLALA SIOUX TRIBE PARTNERSHIP FOR HOUSING, INC., Old Ambulance Building, P.O. Box 3001, Pine Ridge, SD 57770, Grant Type: Comprehensive, Amount Awarded: $54,391.
LEGAL AID OF WESTERN MISSOURI, 1125 Grand Boulevard, Suite 2000, Kansas City, MO 64106, Grant Type: Comprehensive, Amount Awarded: $146,410. | REVERSE MORTGAGE COUNSELORS, INCORPORATED, 400 Selby Avenue, Suite G, St. Paul MN, St. Paul, MN 55102, Grant Type: Comprehensive, Amount Awarded: $22,627.
LEGAL SERVICES OF EASTERN MISSOURI, INCORPORA, 4232 Forest Park Ave., St. Louis, MO 63108-2811, Grant Type: Comprehensive, Amount Awarded: $146,410. | SAINT MARTIN, IBERIA, LAFAYETTE COMMUNITY ACT, 501 Saint John St., P.O. Box 3343, Lafayette, LA 70501-5709, Grant Type: Comprehensive, Amount Awarded: $30,509.
LINCOLN ACTION PROGRAM, INC., 210 O Street, Lincoln, NE 68508, Grant Type: Comprehensive, Amount Awarded: $41,017. | SAINT MARY COMMUNITY ACTION AGENCY, INC., 1407 Barrow St., P.O. Box 271, Franklin, LA 70538-3514, Grant Type: Comprehensive, Amount Awarded: $20,000.
NEIGHBOR TO NEIGHBOR, 1550 Blue Spruce Drive, Fort Collins, CO 80524, Grant Type: Comprehensive, Amount Awarded: $45,000. | SAINT PAUL DEPARTMENT OF PLANNING AND ECONOMIC DEV., 25 West 4th Street, Suite 1200, St. Paul, MN 55102-1634, Grant Type: Comprehensive, Amount Awarded: $51,746.
SAINT PAUL URBAN LEAGUE, 401 Selby Ave., St. Paul, MN 55102-1724, Grant Type: Comprehensive, Amount Awarded: $22,627. | TEXAS RIOGRANDE LEGAL AID, 300 S. Texas Blvd., Weslaco, TX 78596, Grant Type: Comprehensive, Amount Awarded: $78,440.
SALT LAKE COMMUNITY ACTION PROGRAM, 764 S. 200 W., Salt Lake City, UT 84101-2710, Grant Type: Comprehensive, Amount Awarded: $35,000. | TRI-COUNTY ACTION PROGRAMS, INCORPORATED, 700 W. Saint Germain St., Saint Cloud, MN 56301-3507, Grant Type: Comprehensive, Amount Awarded: $30,509.
SOUTH ARKANSAS COMMUNITY DEVELOPMENT, 406 Clay Street, Arkadelphia, AR 71923, Grant Type: Comprehensive, Amount Awarded: $38,390. | UNITED CEREBRAL PALSY OF GREATER HOUSTON, INC., 4500 Bissonnet, Suite 340, Bellaire, TX 77401, Grant Type: Comprehensive, Amount Awarded: $35,763.
SOUTHEASTERN NORTH DAKOTA COMMUNITY ACTION AG, 3233 S. University Dr., Fargo, ND 58104-6221, Grant Type: Comprehensive, Amount Awarded: $20,000. | UNITED COMMUNITY CENTER, 1028 S. 9th Street, Milwaukee, WI 53204, Grant Type: Comprehensive, Amount Awarded: $35,763.
SOUTHERN MINNESOTA REGIONAL LEGAL SERVICES, INC., 166 E. 4th St., Suite 200, St. Paul, MN 55101, Grant Type: Comprehensive, Amount Awarded: $59,682. | UNITED NEIGHBORS, INC., 808 Harrison Street, Davenport, IA 52803, Grant Type: Comprehensive, Amount Awarded: $51,121.
STILLWATER HOUSING AUTHORITY, 807 S. Lowry, Stillwater, OK 74074, Grant Type: Comprehensive, Amount Awarded: $30,000. | UNIVERSAL HOUSING DEVELOPMENT CORPORATION, 301 E. 3rd St., P.O. Box 846, Russellville, AR 72811-5109, Grant Type: Comprehensive, Amount Awarded: $27,882.
TENANT RESOURCE CENTER, 1202 Williamson St., Suite A, Madison, WI 53703, Grant Type: Comprehensive, Amount Awarded: $41,017. | URBAN LEAGUE OF METROPOLITAN SAINT LOUIS, 3701 Grandel Sq., St. Louis, MO 63108-3627, Grant Type: Comprehensive, Amount Awarded: $78,440.
UTAH STATE UNIVERSITY—FAMILY LIFE CENTER HOUSING AND FINANCIAL COUNSELING SERVICES, 493 N. 700 E, Logan, UT 84321, Grant Type: Comprehensive, Amount Awarded: $25,254. | WACO COMMUNITY DEVELOPMENT CORPORATION, 1624 Colcord, Waco, TX 76707, Grant Type: Comprehensive, Amount Awarded: $33,296.
YOUR COMMUNITY CONNECTION, 2261 Adams Ave., Ogden, UT 84401-1510, Grant Type: Comprehensive, Amount Awarded: $22,075. | WEST CENTRAL WISCONSIN COMMUNITY ACTION AGENCY, INC., 525 Second Street, P.O. Box 308, Glenwood City, WI 54751, Grant Type: Comprehensive, Amount Awarded: $41,017.
YOUTH EDUCATION AND HEALTH IN SOULARD, 1919 South Broadway, St. Louis, MO 63104, Grant Type: Comprehensive, Amount Awarded: $24,940.
PHILADELPHIA (LHCA-COMP)
AFFORDABLE HOMES OF MILLVILLE ECUMENICAL, 518 North High Street, Millville, NJ 08332, Grant Type: Comprehensive, Amount Awarded: $29,110. | ANNE ARUNDEL COUNTY ECONOMIC OPPORTUNITY COMM, 251 West St., P.O. Box 1951, Annapolis, MD 21404, Grant Type: Comprehensive, Amount Awarded: $27,809.
AFFORDABLE HOUSING ALLIANCE OF NEW JERSEY (FORMERLY THE MONMOUTH HOUSING ALLIANCE), 59 Broad Street, Eatontown, NJ 07724, Grant Type: Comprehensive, Amount Awarded: $23,904. | ARUNDEL COMMUNITY DEVELOPMENT SERVICE INC., 2666 Riva Road, Suite 210, Annapolis, MD 21401, Grant Type: Comprehensive, Amount Awarded: $25,857.
AFFORDABLE HOUSING, EDUCATION AND DEVELOPMENT, INC. (AHEAD), 161 Main St., Littleton, NH 03561, Grant Type: Comprehensive, Amount Awarded: $31,713. | ASIAN AMERICANS FOR EQUALITY, 111 Division St., New York, NY 10002, Grant Type: Comprehensive, Amount Awarded: $25,857.
ALBANY COUNTY RURAL HOUSING ALLIANCE, INC., 24 Martin Road, P.O. Box 407, Voorheesville, NY 12186, Grant Type: Comprehensive, Amount Awarded: $37,967. | BELMONT SHELTER CORPORATION, 1195 Main Street, Buffalo, NY 14209-2196, Grant Type: Comprehensive, Amount Awarded: $37,150.
ALLEGANY COUNTY COMMUNITY OPPORTUNITIES AND RURAL DEVELOPMENT (ACCORD) CORP., 84 Schuyler Street, P.O. Box 573, Belmont, NY 14813-1051, Grant Type: Comprehensive, Amount Awarded: $24,555. | BERKS COMMUNITY ACTION PROGRAM BUDGET COUNSEL, 247 N. 5th St. Reading, PA 19601, Grant Type: Comprehensive, Amount Awarded: $29,761.
BERKSHIRE COUNTY REGIONAL HOUSING AUTHORITY-H, 150 North Street, Suite 28, Pittsfield, MA 01201, Grant Type: Comprehensive, Amount Awarded: $30,412. | BETTER NEIGHBORHOODS, INCORPORATED, 986 Albany St., Schenectady, NY 12307, Grant Type: Comprehensive, Amount Awarded: $31,713.
BISHOP SHEEN ECUMENICAL HOUSING FOUNDATION, 935 East Ave., Suite 300, Rochester, NY 14607-2216, Grant Type: Comprehensive, Amount Awarded: $21,301. | CENTRAL VERMONT COMMUNITY ACTION COUNCIL, INC., 195 U.S. Route 302-Berlin, Barre, VT 05641, Grant Type: Comprehensive, Amount Awarded: $30,412.
BLAIR COUNTY COMMUNITY ACTION AGENCY, 2100 Sixth Avenue, Altoona, PA 16602, Grant Type: Comprehensive, Amount Awarded: $26,507. | CHAUTAUQUA OPPORTUNITIES, INCORPORATED, 17 W. Courtney St., Dunkirk, NY 14048-2754, Grant Type: Comprehensive, Amount Awarded: $32,364.
BRIDGEPORT NEIGHBORHOOD TRUST, 177 State St., 5th Floor, Bridgeport, CT 06604-4806, Grant Type: Comprehensive, Amount Awarded: $21,952. | CHESTER COMMUNITY IMPROVEMENT PROJECT, 412 Avenue of the States, P.O. Box 541, Chester, PA 19013-0541, Grant Type: Comprehensive, Amount Awarded: $29,110.
BUCKS COUNTY HOUSING GROUP, 2324 Second Street Pike, Suite 17, Wrightstown, PA 18940, Grant Type: Comprehensive, Amount Awarded: $23,254. | CHILDREN'S & FAMILY SERVICE A/K/A FAMILY SERVICE AGENCY, 535 Marmion Avenue, Youngstown, OH 44502-2323, Grant Type: Comprehensive, Amount Awarded: $24,738.
BURLINGTON COUNTY COMMUNITY ACTION PROGRAM, One Van Sciver Parkway, Willingboro, NJ 08046, Grant Type: Comprehensive, Amount Awarded: $24,555. | COASTAL ECONOMIC DEVELOPMENT CORPORATION, 34 Wing Farm Parkway, Bath, ME 04530, Grant Type: Comprehensive, Amount Awarded: $26,507.
CENTER CITY NEIGHBORHOOD DEVELOPMENT CORPORAT, 1022 Main St., Niagara Falls, NY 14301, Grant Type: Comprehensive, Amount Awarded: $23,254. | COASTAL ENTERPRISES, INCORPORATED, 36 Water Street, P.O. Box 268, Wiscasset, ME 04578-0268, Grant Type: Comprehensive, Amount Awarded: $25,857.
CENTER FOR FAMILY SERVICES, INCORPORATED, 213 W. Center Street, Meadville, PA 16335-3406, Grant Type: Comprehensive, Amount Awarded: $30,412. | COMMISSION ON ECONOMIC OPPORTUNITY OF LUZERNE, 165 Amber Lane, P.O. Box 1127, Wilkes Barre, PA 18703-1127, Grant Type: Comprehensive, Amount Awarded: $32,364.
COMMUNITY ACTION COMMISSION OF BELMONT COUNTY, 153½ W. Main Street, Saint Clairsville, OH 43950, Grant Type: Comprehensive, Amount Awarded: $26,507. | COMMUNITY UNIFIED TODAY, INCORPORATED, 152 Genesee Street, P.O. Box 268, Geneva, NY 14456, Grant Type: Comprehensive, Amount Awarded: $24,555.
COMMUNITY ACTION COMMITTEE OF LEHIGH VALLEY, 1337 E. 5th Street, Bethlehem, PA 18015, Grant Type: Comprehensive, Amount Awarded: $29,761. | CONSUMER CREDIT AND BUDGET COUNSELING, 299 S. Shore Road, Route 9 South, Marmora, NJ 08223-0866, Grant Type: Comprehensive, Amount Awarded: $26,507.
COMMUNITY ACTION PROGRAM FOR MADISON COUNTY, 3 East Main Street, P.O. Box 249, Morrisville, NY 13408, Grant Type: Comprehensive, Amount Awarded: $30,575. | CORTLAND HOUSING ASSISTANCE COUNCIL, INCORPOR, 159 Main St., Cortland, NY 13045, Grant Type: Comprehensive, Amount Awarded: $20,000.
COMMUNITY ACTION SOUTHWEST, 150 W. Beau Street, Suite 304, Washington, PA 15301, Grant Type: Comprehensive, Amount Awarded: $31,062. | DETROIT NON-PROFIT HOUSING CORPORATION, 8904 Woodward Ave., Suite 279, Considine Center, Detroit, MI 48202, Grant Type: Comprehensive, Amount Awarded: $28,459.
COMMUNITY ASSISTANCE NETWORK, 7701 Dunmanway, Baltimore, MD 21222-5437, Grant Type: Comprehensive, Amount Awarded: $20,000. | FAIR HOUSING RESOURCE CENTER, 54 South State Street, Suite 303, Painesville, OH 44077, Grant Type: Comprehensive, Amount Awarded: $27,809.
COMMUNITY HOUSING SOLUTIONS, 12114 Larchmere Blvd., Cleveland, OH 44120, Grant Type: Comprehensive, Amount Awarded: $27,809. | FAITH FELLOWSHIP COMMUNITY DEVELOPMENT CORPORATION, 2707 Main Street, Sayreville, NJ 08872, Grant Type: Comprehensive, Amount Awarded: $23,254.
COMMUNITY SERVICE NETWORK, INC., 52 Broadway, Stoneham, MA 02180-1003, Grant Type: Comprehensive, Amount Awarded: $24,555. | FAMILY AND CHILDREN'S ASSOCIATION, 336 Fulton Ave., Hempstead, NY 11550-3907, Grant Type: Comprehensive, Amount Awarded: $28,459.
FAYETTE COUNTY COMMUNITY ACTION AGENCY, 140 North Beeson Avenue, Uniontown, PA 15401, Grant Type: Comprehensive, Amount Awarded: $26,507. | GRAND RAPIDS URBAN LEAGUE, 745 Eastern Ave., SE., Grand Rapids, MI 49503-5544, Grant Type: Comprehensive, Amount Awarded: $33,015.
FIRST STATE COMMUNITY ACTION AGENCY, INC., 308 N. Railroad Ave., Georgetown, DE 19947-1252, Grant Type: Comprehensive, Amount Awarded: $31,713. | GREATER BOSTON LEGAL SERVICES, 197 Friend Street, Boston, MA 02114-1802, Grant Type: Comprehensive, Amount Awarded: $28,459.
FREDERICK COMMUNITY ACTION AGENCY, 100 S. Market St., Frederick, MD 21701-5527, Grant Type: Comprehensive, Amount Awarded: $20,000. | GREATER EAST SIDE COMMUNITY ASSOCIATION, 2804 N. Franklin Avenue, Flint, MI 48506, Grant Type: Comprehensive, Amount Awarded: $27,809.
FRIENDS OF THE NORTH COUNTRY, 1 Mill Street, P.O. Box 446, Keeseville, NY 12944, Grant Type: Comprehensive, Amount Awarded: $31,713. | GREATER ERIE COMMUNITY ACTION AGENCY, 18 W. 9th St., Erie, PA 16501-1343, Grant Type: Comprehensive, Amount Awarded: $30,412.
GARDEN STATE CONSUMER CREDIT COUNSELING, INC./NOVADEBT, 225 Willowbrook Road, Freehold, NJ 07728, Grant Type: Comprehensive, Amount Awarded: $20,651. | HARFORD COUNTY HOUSING AGENCY, 15 South Main Street, Suite 106, Bel Air, MD 21014, Grant Type: Comprehensive, Amount Awarded: $21,000.
GARFIELD JUBILEE ASSOCIATION, INCORPORATED, 5138 Penn Ave., Pittsburgh, PA 15224-1616, Grant Type: Comprehensive, Amount Awarded: $30,412. | HOME PARTNERSHIP, INCORPORATED, Rumsey Towers Building, Suite 301, 626 Towne Center Drive, Joppatowne, MD 21085, Grant Type: Comprehensive, Amount Awarded: $27,809.
GARRETT COUNTY COMMUNITY ACTION COMMITTEE, INC., 104 E. Center Street, Oakland, MD 21550-1328, Grant Type: Comprehensive, Amount Awarded: $37,967. | HOME REPAIR SERVICES OF KENT COUNTY, INC., 1100 S. Division Avenue, Grand Rapids, MI 49507, Grant Type: Comprehensive, Amount Awarded: $29,110.
HOMEFRONT, INC., 560 Delaware Avenue, Suite 101, Buffalo, NY 14202, Grant Type: Comprehensive, Amount Awarded: $21,952. | HOUSING OPPORTUNITIES MADE EQUAL, INCORPORATE, 700 East Franklin Street, Suite 3A, Richmond, VA 23219, Grant Type: Comprehensive, Amount Awarded: $30,412.
HOUSING AUTHORITY OF THE CITY OF PATERSON, 60 Van Houten Street, P.O. Box H, Paterson, NJ 07509, Grant Type: Comprehensive, Amount Awarded: $25,206. | HOUSING PARTNERSHIP FOR MORRIS COUNTY, 2 E. Blackwell Street, Suite 12, Dover, NJ 07801, Grant Type: Comprehensive, Amount Awarded: $29,761.
HOUSING AUTHORITY OF THE COUNTY OF BUTLER, 114 Woody Drive, Butler, PA 16001, Grant Type: Comprehensive, Amount Awarded: $26,507. | INNER CITY CHRISTIAN FEDERATION, 515 Jefferson SE., Grand Rapids, MI 49507, Grant Type: Comprehensive, Amount Awarded: $38,784.
HOUSING COUNCIL IN MONROE COUNTY, INCORPORATE, 183 Main St. E., Suite 1100, Rochester, NY 14604, Grant Type: Comprehensive, Amount Awarded: $29,110. | KANAWHA INSTITUTE FOR SOCIAL RESEARCH & ACTION, INC., 124 Marshall Avenue, Dunbar, WV 25064, Grant Type: Comprehensive, Amount Awarded: $22,603.
HOUSING COUNCIL OF YORK, 35 South Duke Street, York, PA 17401-1106, Grant Type: Comprehensive, Amount Awarded: $25,206. | KEUKA HOUSING COUNCIL, 160 Main Street, Penn Yan, NY 14527, Grant Type: Comprehensive, Amount Awarded: $24,934.
HOUSING COUNSELING SERVICES, INCORPORATED, 2410 17th St., NW., Adams Alley Entrance, Washington, DC 20009, Grant Type: Comprehensive, Amount Awarded: $37,967. | LACONIA AREA COMMUNITY LAND TRUST, P.O. Box 6104, Laconia, NH 03247, Grant Type: Comprehensive, Amount Awarded: $27,000.
HOUSING INITIATIVES PARTNERSHIP, INCORPORATED, 6525 Belcrest Road, Suite 555, Hyattsville, MD 20782, Grant Type: Comprehensive, Amount Awarded: $25,857. | LANSING AFFORDABLE HOMES, INC., 6546 Mercantile Way, 9-S, Lansing, MI 48911, Grant Type: Comprehensive, Amount Awarded: $28,459.
LAWRENCE COUNTY SOCIAL SERVICES, INCORPORATED, 241 W. Grant Street, P.O. Box 189, New Castle, PA 16103-0189, Grant Type: Comprehensive, Amount Awarded: $20,651. | MARYLAND RURAL DEVELOPMENT CORPORATION, 101 Cedar Ave., P.O. Box 739, Greensboro, MD 21639-0739, Grant Type: Comprehensive, Amount Awarded: $26,507.
LIGHTHOUSE COMMUNITY DEVELOPMENT, 46156 Woodward Avenue, Pontiac, MI 48342, Grant Type: Comprehensive, Amount Awarded: $33,015. | MEDIA FELLOWSHIP HOUSE, 302 S. Jackson, Media, PA 19063, Grant Type: Comprehensive, Amount Awarded: $28,459.
LONG ISLAND HOUSING SERVICES, INCORPORATED, 640 Johnson Avenue, Suite 8, Bohemia, NY 11716-2624, Grant Type: Comprehensive, Amount Awarded: $31,062. | METRO-INTERFAITH SERVICES, INCORPORATED, 21 New St., Binghamton, NY 13903, Grant Type: Comprehensive, Amount Awarded: $20,000.
LYNCHBURG COMMUNITY ACTION GROUP, INCORPORATE, 926 Commerce Street, Lynchburg, VA 24504, Grant Type: Comprehensive, Amount Awarded: $27,809. | MID-OHIO REGIONAL PLANNING COMMISSION, 285 E. Main St., Columbus, OH 43215-5272, Grant Type: Comprehensive, Amount Awarded: $30,000.
MANCHESTER NEIGHBORHOOD HOUSING SERVICES, INC., 20 Merrimack Street, Manchester, NH 03101, Grant Type: Comprehensive, Amount Awarded: $25,857. | MONMOUTH COUNTY BOARD OF CHOSEN FREEHOLDERS/MONMOUTH COUNTY DIVISION OF SOCIAL SERVICES, P.O. Box 3000, Freehold, NJ 07728, Grant Type: Comprehensive, Amount Awarded: $31,062.
MARGERT COMMUNITY CORPORATION, 325 Beach 37th Street, Far Rockaway, NY 11691-4103, Grant Type: Comprehensive, Amount Awarded: $27,158. | MT. AIRY, U S A, 6703 Germantown Ave.—Suite 200, Philadelphia, PA 19119, Grant Type: Comprehensive, Amount Awarded: $29,761.
MARSHALL HEIGHTS COMMUNITY DEVELOPMENT ORGANIZATION, 3939 Benning Road, NE., Washington, DC 20019-2662, Grant Type: Comprehensive, Amount Awarded: $22,603. | NATIONAL COUNCIL ON AGRICULTURAL LIFE AND LAB, 363 Saulsbury Road, Dover, DE 19904-2722, Grant Type: Comprehensive, Amount Awarded: $32,364.
NCCS CENTER FOR NONPROFIT HOUSING, 6308 S. Warner, P.O. Box 149, Fremont, MI 49412, Grant Type: Comprehensive, Amount Awarded: $31,713. | NORTHFIELD COMMUNITY LOCAL DEVELOPMENT CORPORATION, 160 Heberton Ave., Staten Island, NY 10302, Grant Type: Comprehensive, Amount Awarded: $26,507.
NEAR NORTHEAST COMMUNITY IMPROVEMENT CORP., 1326 Florida Ave., NE., Washington, DC 20002-7108, Grant Type: Comprehensive, Amount Awarded: $27,809. | NORTHWEST MICHIGAN HUMAN SERVICES AGENCY, INC., 3963 Three Mile Road, Traverse City, MI 49686-9164, Grant Type: Comprehensive, Amount Awarded: $37,967.
NEIGHBORHOOD HOUSING SERVICES OF NEW BRITAIN, INC., 223 Broad St., New Britain, CT 06053-4107, Grant Type: Comprehensive, Amount Awarded: $26,507. | NORTHWEST OHIO DEVELOPMENT AGENCY, 432 N. Superior Street, Toledo, OH 43604, Grant Type: Comprehensive, Amount Awarded: $20,103.
NEIGHBORHOOD HOUSING SERVICES OF NEW YORK CITY (NHS OF NYC), 307 West 36th St., 12th Floor, New York, NY 10018-6495, Grant Type: Comprehensive, Amount Awarded: $24,555. | OAKLAND COUNTY HOUSING COUNSELING, 250 Elizabeth Lake Road, Suite 1900, Pontiac, MI 48341-0414, Grant Type: Comprehensive, Amount Awarded: $29,761.
NEIGHBORS HELPING NEIGHBORS, INC., 443 39th Street, Suite 202, Brooklyn, NY 11232, Grant Type: Comprehensive, Amount Awarded: $25,857. | OAKLAND LIVINGSTON HUMAN SERVICE AGENCY, 196 Cesar E. Chavez Ave., P.O. Box 430598, Pontiac, MI 48343-0598, Grant Type: Comprehensive, Amount Awarded: $25,206.
NEW JERSEY CITIZEN ACTION, 744 Broad Street, Suite 2080, Newark, NJ 07102, Grant Type: Comprehensive, Amount Awarded: $39,603. | OCEAN COMMUNITY ECONOMIC ACTION NOW, INC. (O.C.E.A.N.), 22 Hyers, P.O. Box 1029, 40 Washington Street, Toms River, NJ 08753, Grant Type: Comprehensive, Amount Awarded: $21,301.
NEWPORT NEWS OFFICE OF HUMAN AFFAIRS, 392 Maple Ave., P.O. Box 37, Newport News, VA 23607, Grant Type: Comprehensive, Amount Awarded: $25,206. | OPPORTUNITIES FOR CHENANGO, INC., 44 W. Main St., P.O. Box 470, Norwich, NY 13815-1613, Grant Type: Comprehensive, Amount Awarded: $31,062.
OSWEGO HOUSING DEVELOPMENT COUNCIL, INC., 2971 County Rte 26, P.O. Box 147, Parish, NY 13131, Grant Type: Comprehensive, Amount Awarded: $37,150. | PLYMOUTH REDEVELOPMENT AUTHORITY, 11 Lincoln Street, Plymouth, MA 02360, Grant Type: Comprehensive, Amount Awarded: $31,062.
PEOPLE INCORPORATED OF SOUTHWEST VIRGINIA, 1173 W. Main Street, Abingdon, VA 24210-2428, Grant Type: Comprehensive, Amount Awarded: $30,412. | PRINCE WILLIAM COUNTY VIRGINIA COOPERATIVE EXTENSION, 8033 Ashton Ave., Ste 105, Manassas, VA 20109-8202, Grant Type: Comprehensive, Amount Awarded: $30,412.
PEOPLES REGIONAL OPPORTUNITY PROGRAM, 510 Cumberland Avenue, Portland, ME 04101, Grant Type: Comprehensive, Amount Awarded: $27,158. | PRO-HOME, INC., P.O. Box 2793, Taunton, MA 02780, Grant Type: Comprehensive, Amount Awarded: $25,857.
PHILADELPHIA COUNCIL FOR COMMUNITY ADVANCEMENT, 100 North 17th Street—Suite 700, Philadelphia, PA 19103-2736, Grant Type: Comprehensive, Amount Awarded: $29,110. | PUTNAM COUNTY HOUSING CORPORATION, 11 Seminary Hill Road, Carmel, NY 10512, Grant Type: Comprehensive, Amount Awarded: $28,459.
PHOENIX HOUSING & COUNSELING NON-PROFIT, INCORPORATED, 1640 Porter St., Detroit, MI 48216-1936, Grant Type: Comprehensive, Amount Awarded: $21,301. | QUIN RIVERS AGENCY FOR COMMUNITY ACTION, INC., 104 Roxbury Industrial Center, Charles City, VA 23030, Grant Type: Comprehensive, Amount Awarded: $21,952.
PIEDMONT HOUSING ALLIANCE, 111 Monticello Ave., Ste. 104, Charlottesville, VA 22902, Grant Type: Comprehensive, Amount Awarded: $28,459. | QUINCY COMMUNITY ACTION PROGRAMS, INCORPORATE, 1509 Hancock St., Quincy, MA 02169-5200, Grant Type: Comprehensive, Amount Awarded: $28,459.
PINE TREE LEGAL SERVICES, INCORPORATED, 88 Federal St., P.O. Box 547, Portland, ME 04112, Grant Type: Comprehensive, Amount Awarded: $29,110. | ROCKLAND HOUSING ACTION COALITION, 95 New Clarkstown Road, Nanuet, NY 10954, Grant Type: Comprehensive, Amount Awarded: $30,412.
RURAL ULSTER PRESERVATION COMPANY, 289 Fair St., Kingston, NY 12401, Grant Type: Comprehensive, Amount Awarded: $33,015. | SOUTHWEST MICHIGAN COMMUNITY ACTION AGENCY, 185 E. Main Street, Suite 200, Benton Harbor, MI 49022, Grant Type: Comprehensive, Amount Awarded: $22,700.
SCHUYLKILL COMMUNITY ACTION, 206 North Second Street, Pottsville, PA 17901, Grant Type: Comprehensive, Amount Awarded: $20,110. | SOUTHWESTERN PENNSYLVANIA LEGAL SERVICES, INC., 10 West Cherry Avenue, Central Office, Washington, PA 15301, Grant Type: Comprehensive, Amount Awarded: $32,364.
SKYLINE COMMUNITY ACTION PROGRAM, INCORPORATE, 31 Stanard Street, P.O. Box 508, Stanardsville, VA 22973, Grant Type: Comprehensive, Amount Awarded: $31,713. | SPRINGFIELD PARTNERS FOR COMMUNITY ACTION, 619 State Street, Springfield, MA 01109-4114, Grant Type: Comprehensive, Amount Awarded: $23,254.
SOMERSET COUNTY COALITION ON AFFORDABLE HOUSING, INC., 600 First Avenue, Suite 3, Raritan, NJ 08869, Grant Type: Comprehensive, Amount Awarded: $32,364. | ST. JAMES COMMUNITY DEVELOPMENT CORPORATION, 402 Broad Street, Newark, NJ 07104, Grant Type: Comprehensive, Amount Awarded: $20,651.
SOUTHERN APPALACHIAN LABOR SCHOOL FOUNDATION, INC., P.O. Box 127, 735 Beards Fork Rd., Beards Fork, WV, Kincaid, WV 25119, Grant Type: Comprehensive, Amount Awarded: $21,952. | STARK METROPOLITAN HOUSING AUTHORITY, 400 E. Tuscarawas Street, Canton, OH 44702, Grant Type: Comprehensive, Amount Awarded: $21,952.
SOUTHERN MARYLAND TRI-COUNTY COMMUNITY ACTION, 8383 Leonardtown Rd., P.O. Box 280, Hughesville, MD 20637, Grant Type: Comprehensive, Amount Awarded: $27,158. | STRYCKER'S BAY NEIGHBORHOOD COUNCIL, INCORPORATED, 61 West 87th Street, Lower Level, New York, NY 10024, Grant Type: Comprehensive, Amount Awarded: $21,301.
TELAMON CORPORATION, 111 Henry St., P.O. Box 500, Gretna, VA 24557-0500, Grant Type: Comprehensive, Amount Awarded: $20,000. | TRI-COUNTY HOUSING COUNCIL, 143 Hibbard Road, P.O. Box 451, Big Flats, NY 14814, Grant Type: Comprehensive, Amount Awarded: $25,206.
THE SOUTHEASTERN TIDEWATER OPPORTUNITY PROJEC, 2551 Almeda Ave., Norfolk, VA 23513-2443, Grant Type: Comprehensive, Amount Awarded: $23,254. | TROY REHABILITATION AND IMPROVEMENT PROGRAM, 415 River Street, Ste. 3, Troy, NY 12180, Main Office, Troy, NY 12180, Grant Type: Comprehensive, Amount Awarded: $37,967.
THE TREHAB CENTER INC., 10 Public Avenue, P.O. Box 366, Montrose, PA 18801-0366, Grant Type: Comprehensive, Amount Awarded: $28,459. | UNITED NEIGHBORHOOD CENTERS OF LACKAWANNA COUNTY, 425 Alder Street, Scranton, PA 18505, Grant Type: Comprehensive, Amount Awarded: $31,062.
THE URBAN LEAGUE OF RHODE ISLAND, 246 Prairie Ave., Providence, RI 02905-2397, Grant Type: Comprehensive, Amount Awarded: $28,459. | UNIVERSITY LEGAL SERVICES, 220 I St., NE., Ste. 130, Washington, DC 20002-4389, Grant Type: Comprehensive, Amount Awarded: $23,904.
THE WAY HOME, 214 Spruce Street, Manchester, NH 03103, Grant Type: Comprehensive, Amount Awarded: $30,412. | WASHINGTON COUNTY COMMUNITY ACTION COUNCIL, 101 Summit Ave., Hagerstown, MD 21740, Grant Type: Comprehensive, Amount Awarded: $29,761.
TOTAL ACTION AGAINST POVERTY IN ROANOKE VALLEY, 145 Campbell Ave., Suite 700, Roanoke, VA 24011, Grant Type: Comprehensive, Amount Awarded: $28,459. | WESTCHESTER RESIDENTIAL OPPORTUNITIES, INCORPORATED, 470 Mamaroneck Ave., Suite 410, White Plains, NY 10605-1830, Grant Type: Comprehensive, Amount Awarded: $28,459.
TRI-CITY PEOPLES CORPORATION, 675 S. 19th Street, Newark, NJ 07103, Grant Type: Comprehensive, Amount Awarded: $20,000. | WESTERN CATSKILLS COMMUNITY REVITALIZATION COUNCIL, INC., 125 Main Street, Box A, Stamford, NY 12167, Grant Type: Comprehensive, Amount Awarded: $27,158.
WORKING IN NEIGHBORHOODS, 1814 Dreman Avenue, Cincinnati, OH 45223, Grant Type: Comprehensive, Amount Awarded: $29,110. | WSOS COMMUNITY ACTION COMMISSION, INC., 109 S. Front Street, P.O. Box 590, Fremont, OH 43420, Grant Type: Comprehensive, Amount Awarded: $27,158.
YWCA OF NEW CASTLE COUNTY, 233 King St., Wilmington, DE 19801-2521, Grant Type: Comprehensive, Amount Awarded: $33,015.
SANTA ANA (LHCA-COMP)
ACCESS INCORPORATED, 3630 Aviation Way, P.O. Box 4666, Medford, OR 97501, Grant Type: Comprehensive, Amount Awarded: $62,195. | ASIAN INCORPORATED, 1670 Pine Street, San Francisco, CA 94109, Grant Type: Comprehensive, Amount Awarded: $48,130.
ADMINISTRATION OF RESOURCES AND CHOICES, P.O. Box 86802, Tucson, AZ 85754, Grant Type: Comprehensive, Amount Awarded: $20,000. | BYDESIGN FINANCIAL SOLUTIONS, DBA CCCS OF LOS ANGELES, 5628 E. Slauson Ave., Los Angeles, CA 90040-2922, Grant Type: Comprehensive, Amount Awarded: $90,324.
ANAHEIM HOUSING AUTHORITY—ANAHEIM HOUSING COUNSELING AGENCY, 201 S. Anaheim Blvd., Suite 203, Anaheim, CA 92805, Grant Type: Comprehensive, Amount Awarded: $48,130. | CITY OF VACAVILLE OFFICE OF HOUSING AND REDEVELOPMENT, 40 Eldridge Ave., Suite 2, Vacaville, CA 95688-6800, Grant Type: Comprehensive, Amount Awarded: $30,549.
COMMUNITY ACTION PARTNERSHIP, 124 New Sixth Street, Lewiston, ID 83501, Grant Type: Comprehensive, Amount Awarded: $72,743. | CONSUMER CREDIT COUNSELING SERVICE OF SOUTHERN NEVADA, 2650 S. Jones Blvd., Las Vegas, NV 89146, Grant Type: Comprehensive, Amount Awarded: $131,316.
COMMUNITY HOUSING IMPROVEMENT PROGRAM (CHIP)—COMM. HSG & CREDIT COUNSELING CTR, 1001 Willow Street, Chico, CA 95928, Grant Type: Comprehensive, Amount Awarded: $20,000. | CONSUMER CREDIT COUNSELORS OF KERN AND TULARE COUNTIES, 5300 Lennox Ave., Ste. 200, Bakersfield, CA 93309-1662, Grant Type: Comprehensive, Amount Awarded: $37,581.
COMMUNITY HOUSING RESOURCE CENTER, 3801-A Main Street, Vancouver, WA 98663-2241, Grant Type: Comprehensive, Amount Awarded: $60,000. | CONSUMER CREDIT COUNSELORS OF ORANGE COUNTY, 1920 Old Tustin Ave., (P.O. Box 11330, Santa Ana, CA 92711-1330), Santa Ana, CA 92705, Grant Type: Comprehensive, Amount Awarded: $83,292.
CONSUMER CREDIT COUNSELING SERVICE OF ALASKA, 208 E. 4th Ave., Anchorage, AK 99501-2508, Grant Type: Comprehensive, Amount Awarded: $55,162. | EDEN COUNCIL FOR HOPE AND OPPORTUNITY (ECHO), 770 A St., Hayward, CA 94541-3956, Grant Type: Comprehensive, Amount Awarded: $41,097.
FAMILY HOUSING RESOURCES, 1700 East Fort Lowell Road, Suite 101, Tucson, AZ 85719, Grant Type: Comprehensive, Amount Awarded: $69,227. | FREMONT PUBLIC ASSOCIATION, 1501 North 45th Street, Seattle, WA 98103-6708, Grant Type: Comprehensive, Amount Awarded: $72,743.
HOUSING AUTHORITY OF THE CITY OF FRESNO, 1331 Fulton Mall, P.O. Box 11985, Fresno, CA 93776, Grant Type: Comprehensive, Amount Awarded: $131,316. | HUMAN RIGHTS/FAIR HOUSING COMMISSION, 1112 I Street, Suite 250, Sacramento, CA 95814, Grant Type: Comprehensive, Amount Awarded: $20,000.
INLAND MEDIATION BOARD, 60 East 9th Street, Suite 100, Upland, CA 91786, Grant Type: Comprehensive, Amount Awarded: $69,227. | MONTEREY COUNTY HOUSING ALLIANCE (MOCHA), 134 East Rossi Street, Salinas, CA 93901, Grant Type: Comprehensive, Amount Awarded: $20,000.
KITSAP COUNTY CONSOLIDATED HOUSING AUTHORITY, 9307 Bayshore Drive, NW., Silverdale, WA 98383-9113, Grant Type: Comprehensive, Amount Awarded: $62,195. | NEIGHBORHOOD HOUSE ASSOCIATION, 841 S. 41st Street, San Diego, CA 92113, Grant Type: Comprehensive, Amount Awarded: $86,808.
LABOR'S COMMUNITY SERVICE AGENCY, 5818 N. 7th St., Ste. 100, Phoenix, AZ 85014-5810, Grant Type: Comprehensive, Amount Awarded: $30,549. | OPEN DOOR COUNSELING CENTER, 34420 SW Tualatin Valley Hwy., Hillsboro, OR 97123-5470, Grant Type: Comprehensive, Amount Awarded: $65,711.
LAO FAMILY COMMUNITY DEVELOPMENT, INC., 1551-23rd Avenue, Oakland, CA 94606, Grant Type: Comprehensive, Amount Awarded: $79,776. | ORANGE COUNTY FAIR HOUSING COUNCIL, INC., 201 S. Broadway, Santa Ana, CA 92701-5633, Grant Type: Comprehensive, Amount Awarded: $65,711.
LEGAL AID SOCIETY OF HAWAII, 924 Bethel Street, P.O. Box 37375, Honolulu, HI 96813, Grant Type: Comprehensive, Amount Awarded: $41,097. | PACIFIC COMMUNITY SERVICES, INC., 329 Railroad Ave., Pittsburg, CA 94565-2245, Grant Type: Comprehensive, Amount Awarded: $37,581.
MISSION ECONOMIC DEVELOPMENT ASSOCIATION (MEDA), 3505 20th St., San Francisco, CA 94110, Grant Type: Comprehensive, Amount Awarded: $62,195. | PROJECT SENTINEL, 430 Sherman Avenue, Suite 308, Palo Alto, CA 94306, Grant Type: Comprehensive, Amount Awarded: $79,776.
PIERCE COUNTY, DEPARTMENT OF COMMUNITY SERVICE, 3602 Pacific Avenue, Suite 200, Tacoma, WA 98418-7920, Grant Type: Comprehensive, Amount Awarded: $20,000. | SACRAMENTO NEIGHBORHOOD HOUSING SERVICES, INC., 3447 Fifth Ave., P.O. Box 5420, Sacramento, CA 95817, Grant Type: Comprehensive, Amount Awarded: $58,678.
SAN DIEGO HOME LOAN COUNSELING AND EDUCATION CENTER, 3180 University Avenue, Suite 430, San Diego, CA 92104, Grant Type: Comprehensive, Amount Awarded: $27,032. | SPRINGBOARD NON PROFIT CONSUMER CREDIT MANAGEMENT INC., 4351 Latham Street, Riverside, CA 92501, Grant Type: Comprehensive, Amount Awarded: $131,316.
SAN FRANCISCO HOUSING DEVELOPMENT CORPORATION, 5266 Third St., San Francisco, CA 94124, Grant Type: Comprehensive, Amount Awarded: $30,549. | UMPQUA COMMUNITY ACTION NETWORK, 2448 W. Harvard Blvd., Roseburg, OR 97470, Grant Type: Comprehensive, Amount Awarded: $30,000.
SOUTHEASTERN ARIZONA GOVERNMENTS ORGANIZATION, 118 Arizona St., Bisbee, AZ 85603-1800, Grant Type: Comprehensive, Amount Awarded: $40,000. | WASHOE COUNTY DEPT OF SENIOR SERVICES—SENIOR LAW PROJECT, 1155 E. Ninth St., Reno, NV 89512, Grant Type: Comprehensive, Amount Awarded: $38,000.
SPOKANE NEIGHBORHOOD ACTION PROGRAMS, 2116 East First Avenue, Spokane, WA 99202-3937, Grant Type: Comprehensive, Amount Awarded: $69,227. | WOMEN'S DEVELOPMENT CENTER, 4020 Pecos McLeod, Las Vegas, NV 89121, Grant Type: Comprehensive, Amount Awarded: $58,678.
SPRINGBOARD NON PROFIT CONSUMER CREDIT MANAGEMENT INC., 4351 Latham Street, Riverside, CA 92501, Grant Type: Comprehensive, Amount Awarded: $131,316.
STATE HOUSING FINANCE AGENCIES (16)
ATLANTA (SHFA-COMP)
GEORGIA HOUSING AND FINANCE AUTHORITY, 60 Executive Park South, NE., Atlanta, GA 30329-2231, Grant Type: Comprehensive, Amount Awarded: $184,000. | MISSISSIPPI HOME CORPORATION, 735 Riverside Drive, P.O. Box 23369, Jackson, MS 39225-3369, Grant Type: Comprehensive, Amount Awarded: $137,353.
KENTUCKY HOUSING CORPORATION, 1231 Louisville Road, Frankfort, KY 40601, Grant Type: Comprehensive, Amount Awarded: $294,533.
DENVER (SHFA-COMP)
IOWA FINANCE AUTHORITY, 100 E. Grand Ave., Suite 250, Des Moines, IA 50309, Grant Type: Comprehensive, Amount Awarded: $85,095. | NEW MEXICO MORTGAGE FINANCE AUTHORITY, 344 Fourth Street, SW., P.O. Box 2047, Albuquerque, NM 87102, Grant Type: Comprehensive, Amount Awarded: $145,809.
MONTANA BOARD OF HOUSING, Box 200528, Helena, MT 59620, Grant Type: Comprehensive, Amount Awarded: $96,795. | NORTH DAKOTA HOUSING FINANCE AGENCY, 1500 East Capitol Avenue, P.O. Box 1535, Bismarck, ND 58502-1535, Grant Type: Comprehensive, Amount Awarded: $141,300.
SOUTH DAKOTA HOUSING DEVELOPMENT AUTHORITY, 221 South Central, P.O. Box 1237, Pierre, SD 57501-1237, Grant Type: Comprehensive, Amount Awarded: $120,260.
PHILADELPHIA (SHFA-COMP)
MAINE STATE HOUSING AUTHORITY, 353 Water Street, Augusta, ME 04330, Grant Type: Comprehensive, Amount Awarded: $100,000. | NEW HAMPSHIRE HOUSING FINANCE AUTHORITY, 32 Constitution Drive, Bedford, NH 03110, Grant Type: Comprehensive, Amount Awarded: $75,332.
MICHIGAN STATE HOUSING DEVELOPMENT AUTHORITY, 735 E. Michigan Avenue, P.O. Box 30044, Lansing, MI 48909, Grant Type: Comprehensive, Amount Awarded: $92,219. | PENNSYLVANIA HOUSING FINANCE AGENCY, 211 North Front Street, Harrisburg, PA 17101-1406, Grant Type: Comprehensive, Amount Awarded: $112,000.
RHODE ISLAND HOUSING AND MORTGAGE FINANCE CORPORATION, 44 Washington St., Providence, RI 02903-1721, Grant Type: Comprehensive, Amount Awarded: $132,209. | VIRGINIA HOUSING DEVELOPMENT AUTHORITY, 601 S. Belvedere Street, Richmond, VA 23220, Grant Type: Comprehensive, Amount Awarded: $83,776.
SANTA ANA (SHFA-COMP)
IDAHO HOUSING AND FINANCE ASSOCIATION, 565 West Myrtle, P.O. Box 7899, Boise, ID 83702, Grant Type: Comprehensive, Amount Awarded: $212,610. | WASHINGTON STATE HOUSING FINANCE COMMISSION, 1000 2nd Avenue, Suite 2700, Seattle, WA 98104-1046, Grant Type: Comprehensive, Amount Awarded: $151,509.
HECM (2)
INTERMEDIARY (HECM)
MONEY MANAGEMENT INTERNATIONAL INC., 9009 West Loop South, Suite 700, Houston, TX 77096-1719, Grant Type: HECM, Amount Awarded: $1,147,586. | NATIONAL FOUNDATION FOR CREDIT COUNSELING, INC., 801 Roeder Road, Suite 900, Silver Spring, MD 20910-3372, Grant Type: HECM, Amount Awarded: $1,852,414.

[FR Doc. E8-4306 Filed 3-5-08; 8:45 am]

BILLING CODE 4210-67-P